DEPARTMENT OF ENERGY

Federal Energy Regulatory Commission

Combined Notice Of Filings

Take notice that the Commission has received the following Natural Gas Pipeline Rate and Refund Report filings:

Filings in Existing Proceedings

Docket Numbers: RP15-106-001.

Applicants: Trailblazer Pipeline Company LLC.

Description: Compliance filing per 154.203: Compliance to RP15-106 to be effective N/A.

Filed Date: 12/17/14.

Accession Number: 20141217-5167.

Comments Due: 5 p.m. ET 12/22/14.

Docket Numbers: RP15-50-002.

Applicants: American Midstream (AlaTenn), LLC.

Description: Compliance filing per 154.203: AlaTenn OFO Filing to be effective 12/17/2014.

Filed Date: 12/17/14.

Accession Number: 20141217-5175

Comments Due: 5 p.m. ET 12/29/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 18, 2014.
Nathaniel J. Davis, Sr.,
Deputy Secretary.

[FR Doc. 2014-30327 Filed 12-24-14; 8:45 am]

BILLING CODE 6717-01-P